SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: December 1-31, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22(e)

1. The Hershey Company; Hazleton Plant; ABR-202012002; Hazle Township, Luzerne County, Pa.; Consumptive Use of Up to 0.0990 mgd; Approval Date: December 11, 2020.

Water Source Approval—Issued Under 18 CFR 806.22(f)

1. Chesapeake Appalachia, L.L.C.; Pad ID: Burkmont Farms; ABR-201012007.R2; Wilmot Township, Bradford County, Pa.; Consumptive Use of Up to 7.5000 mgd; Approval Date: December 11, 2020.

2. Seneca Resources Company, LLC; Pad ID: Byrne 510; ABR-201009059.R2; Rutland Township, Tioga County, Pa.; Consumptive Use of Up to 4.0000 mgd; Approval Date: December 11, 2020

3. Cabot Oil & Gas Corporation; Pad ID: Black P1; ABR-20080708.R2; Springville Township, Susquehanna County, Pa.; Consumptive Use of Up to 5.0000 mgd; Approval Date: December 11, 2020.

4. Cabot Oil & Gas Corporation; Pad ID: Costello P1; ABR-20080707.R2; Dimock Township, Susquehanna County, Pa.; Consumptive Use of Up to 5.0000 mgd; Approval Date: December 11, 2020.

5. Cabot Oil & Gas Corporation; Pad ID: Costello P2; ABR-20080804.R2; Dimock Township, Susquehanna County, Pa.; Consumptive Use of Up to 5.0000 mgd; Approval Date: December 11, 2020.

6. Cabot Oil & Gas Corporation; Pad ID: Lewis P2; ABR-20080802.R2; Dimock Township, Susquehanna County, Pa.; Consumptive Use of Up to 5.0000 mgd; Approval Date: December 11, 2020.

7. Inflection Energy (PA), LLC; Pad ID: Hensler Well Pad; ABR-201506004.R1; Hepburn Township, Lycoming County, Pa.; Consumptive Use of Up to 4.0000 mgd; Approval Date: December 11, 2020.

8. Tilden Bradford, LLC; Pad ID: JENKINS 1H; ABR-20100426.R2; Springfield Township, Bradford County, Pa.; Consumptive Use of Up to 3.0000 mgd; Approval Date: December 13, 2020.

9. Tilden Bradford, LLC; Pad ID: BEARDSLEE 2H; ABR-201008085.R2; Springfield Township, Bradford County, Pa.; Consumptive Use of Up to 3.0000 mgd; Approval Date: December 13, 2020.

10. Tilden Bradford, LLC; Pad ID: Olsyn 1H; ABR-201509004.R1; Springfield Township, Bradford County, Pa.; Consumptive Use of Up to 3.0000 mgd; Approval Date: December 13, 2020.

11. Seneca Resources Company, LLC; Pad ID: PHC Pad S; ABR-201009023.R2; Lawrence Township, Clearfield County, Pa.; Consumptive Use of Up to 4.0000 mgd; Approval Date: December 13, 2020.

12. Chief Oil & Gas, LLC; Pad ID: B & B Investment Group Drilling Pad #1; ABR-201010068.R2; Asylum Township, Bradford County, Pa.; Consumptive Use of Up to 2.0000 mgd; Approval Date: December 13, 2020.

13. Chief Oil & Gas, LLC; Pad ID: Bahl Drilling Pad; ABR-201510007.R1; Forks Township, Sullivan County, Pa.; Consumptive Use of Up to 2.5000 mgd; Approval Date: December 13, 2020.

14. Chesapeake Appalachia, L.L.C.; Pad ID: Baltzley; ABR-201012020.R2; Rush Township, Susquehanna County, Pa.; Consumptive Use of Up to 7.5000 mgd; Approval Date: December 13, 2020.

15. ARD Operating, LLC; Pad ID: Gayla D Loch Pad A; ABR-201009083.R2; Cogan House Township, Lycoming County, Pa.; Consumptive Use of Up to 4.0000 mgd; Approval Date: December 13, 2020.

16. EXCO Resources (PA), LLC; Pad ID: Wistar-Shaffer Tracts Drilling Pad #1; ABR-201009071.R2; Shrewsbury Township, Sullivan County, Pa.; Consumptive Use of Up to 8.0000 mgd; Approval Date: December 13, 2020.

17. Cabot Oil & Gas Corporation; Pad ID: Lewis P1; ABR-20080803.R2; Dimock Township, Susquehanna County, Pa.; Consumptive Use of Up to 5.0000 mgd; Approval Date: December 13, 2020.

18. Cabot Oil & Gas Corporation; Pad ID: Teel P4; ABR-20080701.R2; Springville Township, Susquehanna County, Pa.; Consumptive Use of Up to 5.0000 mgd; Approval Date: December 13, 2020.

19. XTO Energy, Inc.; Pad ID: Lucella 8564H; ABR-201009074.R2; Moreland Township, Lycoming County, Pa.; Consumptive Use of Up to 4.0000 mgd; Approval Date: December 14, 2020.

20. Chesapeake Appalachia, L.L.C.; Pad ID: DGSM; ABR-201012038.R2; Smithfield Township, Bradford County, Pa.; Consumptive Use of Up to 7.5000 mgd; Approval Date: December 24, 2020.

21. Seneca Resources Company, LLC; Pad ID: SGL 90A Pad; ABR-201008049.R2; Lawrence Township, Clearfield County, Pa.; Consumptive Use of Up to 4.9990 mgd; Approval Date: December 24, 2020.

22. Seneca Resources Company, LLC; Pad ID: Appold 493; ABR-201008126.R2; Sullivan Township, Tioga County, Pa.; Consumptive Use of Up to 4.0000 mgd; Approval Date: December 24, 2020.

23. Pennsylvania General Energy Company, L.L.C.; Pad ID: SUSQ Huckleberry—Pad D; ABR-202012001; Union Township, Tioga County, Pa.; Consumptive Use of Up to 4.5000 mgd; Approval Date: December 24, 2020.

24. Rockdale Marcellus, LLC; Pad ID: Heuer 701; ABR-201010010.R2; Union Township, Tioga County, Pa.; Consumptive Use of Up to 4.9900 mgd; Approval Date: December 27, 2020.

25. Rockdale Marcellus, LLC; Pad ID: East Point Fish & Game Club 726; ABR-201010014.R2; Liberty Township, Tioga County, Pa.; Consumptive Use of Up to 4.9900 mgd; Approval Date: December 27, 2020.

26. Chief Oil & Gas, LLC; Pad ID: Hart North Drilling Pad; ABR-201510006.R1; Elkland Township, Sullivan County, Pa.; Consumptive Use of Up to 2.5000 mgd; Approval Date: December 27, 2020.

27. BKV Operating, LLC; Pad ID: Shaskas South; ABR-201011022.R2; Jessup Township, Susquehanna County, Pa.; Consumptive Use of Up to 5.0000 mgd; Approval Date: December 27, 2020.

28. BKV Operating, LLC; Pad ID: Baker North; ABR-201012040.R2; Forest Lake Township, Susquehanna County, Pa.; Consumptive Use of Up to 5.0000 mgd; Approval Date: December 27, 2020.

29. Chief Oil & Gas, LLC; Pad ID: M & M Estates; ABR-201011013.R2; Fox Township, Sullivan County, Pa.; Consumptive Use of Up to 7.5000 mgd; Approval Date: December 27, 2020.

30. Chief Oil & Gas, LLC; Pad ID: PMG God Drilling Pad #1; ABR-201011068.R2; Asylum Township, Bradford County, Pa.; Consumptive Use of Up to 2.0000 mgd; Approval Date: December 27, 2020.

31. Chesapeake Appalachia, L.L.C.; Pad ID: Comstock; ABR-201011053.R2; Rome Township, Bradford County, Pa.; Consumptive Use of Up to 7.5000 mgd; Approval Date: December 27, 2020.

32. Chesapeake Appalachia, L.L.C.; Pad ID: Gregory; ABR-201011004.R2; Wysox Township, Bradford County, Pa.; Consumptive Use of Up to 7.5000 mgd; Approval Date: December 27, 2020.

33. Chesapeake Appalachia, L.L.C.; Pad ID: Primrose; ABR-201011035.R2; Standing Stone Township, Bradford County, Pa.; Consumptive Use of Up to 7.5000 mgd; Approval Date: December 27, 2020.

34. SWN Production Company, LLC; Pad ID: Ross Pad; ABR-201009086.R1; Herrick Township, Bradford County, Pa.; Consumptive Use of Up to 4.9900 mgd; Approval Date: December 27, 2020.

35. SWN Production Company, LLC; Pad ID: GU-S ROEHRIG SMITH Pad; ABR-201009085.R1; Herrick Township, Bradford County, Pa.; Consumptive Use of Up to 4.9990 mgd; Approval Date: December 27, 2020.

36. XPR Resources, LLC; Pad ID: Alder Run LP #5H; ABR-201512001.R1; Cooper Township, Clearfield County, Pa.; Consumptive Use of Up to 0.9990 mgd; Approval Date: December 27, 2020.

37. Seneca Resources Company, LLC; Pad ID: Burke 285; ABR-201009096.R2; Charleston Township, Tioga County, Pa.; Consumptive Use of Up to 4.0000 mgd; Approval Date: December 27, 2020.

38. SWN Production Company, LLC; Pad ID: WR-68 Depue Pad; ABR-201009098.R1; Franklin Township, Susquehanna County, Pa.; Consumptive Use of Up to 4.0000 mgd; Approval Date: December 30, 2020.

39. SWN Production Company, LLC; Pad ID: Behrend Pad; ABR-201010031.R1; Herrick Township, Bradford County, Pa.; Consumptive Use of Up to 4.9900 mgd; Approval Date: December 30, 2020.

40. SWN Production Company, LLC; Pad ID: Hollenbeck ABR; ABR-201010017.R1; Franklin Township, Susquehanna County, Pa.; Consumptive Use of Up to 4.0000 mgd; Approval Date: December 30, 2020.

41. Seneca Resources Company, LLC; Pad ID: Patterson 570; ABR-201009097.R2; Charleston Township, Tioga County, Pa.; Consumptive Use of Up to 4.0000 mgd; Approval Date: December 30, 2020.

42. Seneca Resources Company, LLC; Pad ID: Redl 600; ABR-201010013.R2; Sullivan Township, Tioga County, Pa.; Consumptive Use of Up to 4.0000 mgd; Approval Date: December 30, 2020.

43. Cabot Oil & Gas Corporation; Pad ID: Daniels Pad; ABR-201010018.R2; Gibson Township, Susquehanna County, Pa.; Consumptive Use of Up to 5.0000 mgd; Approval Date: December 30, 2020.

44. ARD Operating, LLC; Pad ID: Kenneth T Schriner Pad A; ABR-201009107.R2; Gamble Township, Lycoming County, Pa.; Consumptive Use of Up to 4.0000 mgd; Approval Date: December 30, 2020.

45. Repsol Oil & Gas USA, LLC; Pad ID: DECRISTO (05 022) D; ABR-201010026.R2; Warren Township, Bradford County, Pa.; Consumptive Use of Up to 6.0000 mgd; Approval Date: December 30, 2020.

46. Rockdale Marcellus, LLC; Pad ID: Guindon 706; ABR-201009029.R2; Union Township, Tioga County, Pa.; Consumptive Use of Up to 4.9900 mgd; Approval Date: December 31, 2020.

47. Cabot Oil & Gas Corporation; Pad ID: MyersR P1; ABR-201511004.R1; Lathrop Township, Susquehanna County, Pa.; Consumptive Use of Up to 5.0000 mgd; Approval Date: December 31, 2020.

48. Cabot Oil & Gas Corporation; Pad ID: StalterD P1; ABR-201011030.R2; Lenox Township, Susquehanna County, Pa.; Consumptive Use of Up to 5.0000 mgd; Approval Date: December 31, 2020.

49. Cabot Oil & Gas Corporation; Pad ID: RomeikaJ P1; ABR-201511005.R1; Gibson Township, Susquehanna County, Pa.; Consumptive Use of Up to 5.0000 mgd; Approval Date: December 31, 2020.

50. Cabot Oil & Gas Corporation; Pad ID: JHHC P1; ABR-201511009.R1; Jessup Township, Susquehanna County, Pa.; Consumptive Use of Up to 5.0000 mgd; Approval Date: December 31, 2020.

51. Seneca Resources Company, LLC; Pad ID: Smithgall 293; ABR-201010055.R2; Charleston Township, Tioga County, Pa.; Consumptive Use of Up to 4.0000 mgd; Approval Date: December 31, 2020.

52. Seneca Resources Company, LLC; Pad ID: Hudson 575; ABR-201010029.R2; Charleston Township, Tioga County, Pa.; Consumptive Use of Up to 4.0000 mgd; Approval Date: December 31, 2020.

53. Seneca Resources Company, LLC; Pad ID: Westbrook 487; ABR-201010040.R2; Richmond Township, Tioga County, Pa.; Consumptive Use of Up to 4.0000 mgd; Approval Date: December 31, 2020.

Authority: Pub. L. 91-575, 84 Stat. 1509 et seq., 18 CFR parts 806, 807, and 808.

Dated: January 6, 2021.
Jason E. Oyler,
General Counsel and Secretary to the Commission.

[FR Doc. 2021-00311 Filed 1-8-21; 8:45 am]

BILLING CODE 7040-01-P